DEPARTMENT OF TRANSPORTATION

Federal Aviation Administration

14 CFR Part 71

[Docket No. FAA-2017-0195; Airspace Docket No. 16-ANM-14]

Amendment of Class E Airspace; Medford, OR

AGENCY: Federal Aviation Administration (FAA), DOT.

ACTION: Final rule.

SUMMARY: This action modifies Class E airspace designated as an extension to a Class D or E surface area, Class E airspace extending upward from 700 feet above the surface, and removes Class E airspace upward from 1,200 feet above the surface at Rogue Valley International-Medford Airport, Medford, OR. This action is necessary due to the decommissioning of the PUMIE locator outer marker and removal of the Rogue Valley VHF Omnidirectional Range/Tactical Air Navigation (VORTAC) from the airspace description as the FAA transitions from ground-based navigation aids to satellite-based navigation. Also, this action updates the airport's geographic coordinates for the Class D and E airspace areas to reflect the FAA's current aeronautical database.

DATES: Effective 0901 UTC, October 12, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of this material at NARA, call (202) 741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class E airspace at Rogue Valley International-Medford Airport, Medford, OR, in support of the transition from ground-based navigation aids to satellite-based navigation.

History

On April 13, 2017, the FAA published in the Federal Register (82 FR 17776) Docket FAA-2017-0195, a notice of proposed rulemaking to modify Class E airspace designated as an extension to a Class D or E surface area, Class E airspace extending upward from 700 feet above the surface, remove Class E airspace extending upward from 1,200 feet above the surface at Rogue Valley International-Medford Airport, Medford, OR, and update the geographic coordinates of the airport. Interested parties were invited to participate in this rulemaking effort by submitting written comments on the proposal to the FAA. No comments were received.

Also, an editorial change is made to the Class D and Class E surface area airspace legal descriptions replacing Airport/Facility Directory with the term Chart Supplement.

Class D and E airspace designations are published in paragraph 5000, 6002, 6004, and 6005, respectively, of FAA Order 7400.11A, dated August 3, 2016, and effective September 15, 2016, which is incorporated by reference in 14 CFR part 71.1. The Class D and E airspace designations listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

The FAA is amending Title 14 Code of Federal Regulations (14 CFR) part 71 by modifying Class E airspace designated as an extension to a Class D or E surface area, modifying Class E airspace extending upward from 700 feet above the surface, removing Class E airspace upward from 1,200 feet above the surface at Rogue Valley International-Medford Airport, Medford, OR, and updating the geographic coordinates of the airport. This action is necessary due to the proposed decommissioning of the PUMIE locator outer marker and for the safety and management of aircraft within the national airspace system as the FAA transitions from ground-based navigation aids to satellite-based navigation.

Class E airspace designated as an extension to Class D or E surface area northeast of the airport is reduced to a 4-mile wide segment (from 5.5 miles wide) extending to 11 miles northwest (from 17.5 miles northwest) of the airport, and the segment to the southeast is reduced to a 5-mile wide segment (from 8 miles), extending to 9 miles (from 19.4 miles) southeast of the airport. This airspace redesign is due to the removal of the Rogue Valley VORTAC navigation aid.

Class E airspace extending upward from 700 feet above the surface is reduced northeast, southeast, and southwest of the airport to only that area necessary to contain IFR departures within 1,500 feet of the surface and IFR departures until reaching 1,200 feet above the surface. Additionally, the Class E airspace area extending upward from 1,200 feet above the surface designated for Rogue Valley International-Medford Airport is removed, as this airspace duplicates the Rogue Valley Class E en route airspace area.

Also, the geographic coordinates of the airport are updated to match the FAA's current aeronautical database. Additionally, this action replaces the outdated term Airport/Facility Directory with the term Chart Supplement in the associated Class D and E airspace legal descriptions.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

ANM OR D Medford, OR [Modified]

Rogue Valley International-Medford Airport, OR

(Lat. 42°22′27″ N., long. 122°52′25″ W.)

That airspace extending upward from the surface to and including 3,800 feet MSL within a 4.1-mile radius of Rogue Valley International-Medford Airport. This Class D airspace area is effective during the specific dates and times established in advance by a Notice to Airmen. The effective date and time will thereafter be continuously published in the Chart Supplement.

Paragraph 6002 Class E Airspace Designated as Surface Areas.

* * * * *

ANM OR E2 Medford, OR [Modified]

Rogue Valley International-Medford Airport, OR

(Lat. 42°22′27″ N., long. 122°52′25″ W.)

That airspace extending upward from the surface within a 4.1-mile radius of Rogue Valley International-Medford Airport. This Class E airspace area is effective during the specific dates and times established in advance by a Notice to Airmen. The effective date and time will thereafter be continuously published in the Chart Supplement.

Paragraph 6004 Class E Airspace Areas Designated as an Extension to a Class D or Class E Surface Area.

* * * * *

ANM OR E4 Medford, OR [Modified]

Rogue Valley International-Medford Airport, OR

(Lat. 42°22′27″ N., long. 122°52′25″ W.)

That airspace extending upward from the surface within 2.5 miles each side of the 159° bearing from the Rogue Valley International-Medford Airport, extending from the 4.1-mile radius of the airport to 9 miles southeast of the airport, and within 2 miles each side of the 339° bearing from the airport extending from the 4.1-mile radius of the airport to 11 miles northwest of the airport.

Paragraph 6005 Class E Airspace Areas Extending Upward From 700 Feet or More Above the Surface of the Earth.

* * * * *

ANM OR E5 Medford, OR [Modified]

Rogue Valley International-Medford Airport, OR

(Lat. 42°22′27″ N., long. 122°52′25″ W.)

That airspace extending upward from 700 feet above the surface within a 9-mile radius of Rogue Valley International-Medford Airport, and within 4 miles each side of the 159° bearing from the airport extending from the 9-mile radius to 18.5 miles southeast of the airport, and within 9 miles west and 5.5 miles east of the 352° bearing from the airport extending from the 9-mile radius of the airport to 26 miles northwest of the airport.

Issued in Seattle, Washington, on July 11, 2017.
Sam S.L. Shrimpton,
Acting Group Manager, Operations Support Group, Western Service Center.

[FR Doc. 2017-15290 Filed 7-20-17; 8:45 am]

BILLING CODE 4910-13-P